DEPARTMENT OF JUSTICE

Notice of Lodging Proposed Consent Decree

In accordance with the Departmental Policy, 28 CFR 50.7, notice is hereby given that a proposed Consent Decree in United States v. Sandstone Mining, L.L.C., et al. (E.D.N.C.), No. 7:04-CV-58F was lodged with the United States District Court for the Eastern District of North Carolina on March 16, 2004.

This proposed Consent Decree concerns a compliant filed by the United States against Defendants Sandstone Mining, L.L.C., Sandstone Mining No. 2, L.L.C., Socastee Harvest, L.L.C., Robert L. Wiseman, and Stephen Wiseman, pursuant to section 301(a) of the Clean Water Act, 33 U.S.C. 1311(a), to obtain injunctive relief from and impose civil penalties against the Defendants for violating the Clean Water Act by discharging pollutants without a permit into waters of the United States. The proposed Consent Decree resolves these allegations by requiring the Defendants to restore the impacted areas and to pay a civil penalty.

The Department of Justice will accept written comments relating to this proposed Consent Decree for thirty (30) days from the date of publication of this Notice. Please address comments to Martin F. McDermott, U.S. Department of Justice, Environment and Natural Resources Division, Environmental Defense Section, P.O. Box 23986, Washington, DC 20026-3986 and refer to United States v. Sandstone Mining, L.L.C., et al., DJ #90-5-1-1-05972.

The proposed Consent Decree may be examined at the Clerk's Office, United States District Court for the Eastern District of North Carolina, Terry Sandford Federal Building and Courthouse, 301 New Bern Avenue, Raleigh, North Carolina 27601. In addition, the proposed Consent Decree may be viewed by http://www.usdoj.gov/enrd/open.html.

Stephen Samuels,
Environmental Defense Section, Environment & Natural Resources Division.

[FR Doc. 04-6829 Filed 3-25-04; 8:45 am]

BILLING CODE 4410-15-M